DEPARTMENT OF TRANSPORTATION

Federal Aviation Administration

The Cancelation of the Fourth Plenary Meeting, NextGen Mid-Term Implementation Task Force

AGENCY: Federal Aviation Administration (FAA), DOT.

ACTION: Notice of the Cancelation of a NextGen Mid-Term Implementation Task Force meeting.

SUMMARY: The FAA is issuing this notice to advise the public of the cancelation of a meeting of the NextGen Mid-Term Implementation Task Force.

DATES: The meeting scheduled for June 9, 2009 starting at 1 a.m. to 4 p.m. is canceled.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for the cancelation of a NextGen Mid-Term Implementation Task Force meeting.

Issued in Washington, DC, on May 4, 2009.
Francisco Estrada C.,
RTCA Advisory Committee.

[FR Doc. E9-10984 Filed 5-11-09; 8:45 am]

BILLING CODE 4910-13-P